DEPARTMENT OF TRANSPORTATION

Federal Aviation Administration

Proposed Advisory Circular 20-XX, Recommended Method for FAA Approval of Aircraft Fire Extinguishing System Components

AGENCY: Federal Aviation Administration (FAA), DOT.

ACTION: Notice of Availability of Proposed Advisory Circular (AC) 20-XX, and request for comments.

SUMMARY: This notice announces the availability of and requests comments on a proposed advisory circular (AC) which provides guidance on the various aspects that should be considered in the FAA approval process of fire extinguishing system components manufactured under a Production Certificate (PC), components to be FAA approved under the Part Manufacturer Approval (PMA) process, or design changes to components originally approved by either method. This notice is necessary to give all interested persons an opportunity to present their views on the proposed AC.

DATES: Comments must be received on or before April 20, 2000.

ADDRESSES: Send all comments on proposed AC 20-XX to: Federal Aviation Administration, Attention: Jan Thor, Program Management Branch, ANM-114, Transport Airplane Directorate, Aircraft Certification Service, 1601 Lind Avenue SW, Renton, WA 98055-4056. Comments may be inspected at the above address between 7:30 a.m. and 4:00 p.m. weekdays, except Federal holidays.

FOR FURTHER INFORMATION CONTACT: Jan Thor, Transport Standards Staff, at the address above, telephone (425) 227-2127.

SUPPLEMENTARY INFORMATION:

Comments Invited

Interested persons are invited to comment on the proposed AC by submitting such written data, views, or arguments as they may desire. Commenters should identify AC 20-XX and submit comments, in duplicate, to the address specified above. All communications received on or before the closing date for comments will be considered by the Transport Standards Staff before issuing the final AC. The proposed AC can be found and downloaded from the Internet at http://www.faa.gov/avr/air/airhome.htm, at the link titled “Draft AC's.” A paper copy of the proposed AC may be obtained by contacting the person named above under the caption “FOR FURTHER INFORMATION CONTACT:”.

Discussion

A fire extinguishing system is comprised of many components which are critical for the proper operation of a system as installed in an aircraft. Section 25.901(b)(2) requires that components of the installation must be constructed, arranged, and installed so as to ensure their continued safe operation between normal inspections and overhauls. The applicant should evaluate the fire extinguishing system and establish minimum reliability standards for the components of the system so that the overall system can meet this requirement. The components should be designed and qualified to meet specific operating performance, service life and reliability requirements of the fire suppression system design established at the time of type design approval. It is recommended that Production Approval Holders (PAH) and Parts Manufacturer Approval (PMA) applicants demonstrate that their candidate components meet or exceed these criteria. The proposed AC describes the critical parameters involved with the design, production and testing of the following components: Explosive firing cartridge, precision burst disc, fill fitting, pressure indicator and discharge head. The proposed AC does not address the complete aircraft system installation. There may be airframe installation requirements and boundary conditions that should be met prior to installation approval.

Issued in Renton, Washington, on January 11, 2000.
Vi L. Lipski,
Acting Manager, Transport Airplane Directorate, Aircraft Certification Service, ANM-100.

[FR Doc. 00-1481 Filed 1-20-00; 8:45 am]

BILLING CODE 4910-13-M